DEPARTMENT OF TRANSPORTATION

Federal Aviation Administration

14 CFR Part 39

[Docket No. FAA-2009-0227; Directorate Identifier 2007-SW-65-AD]

RIN 2120-AA64

Airworthiness Directives; Bell Helicopter Textron Canada Model 427 Helicopters

AGENCY: Federal Aviation Administration (FAA), DOT.

ACTION: Notice of proposed rulemaking (NPRM).

SUMMARY: We propose to adopt a new airworthiness directive (AD) for Bell Helicopter Textron Canada (BHTC) Model 427 helicopters. This proposed AD results from mandatory continuing airworthiness information (MCAI) originated by the aviation authority of Canada to identify and correct an unsafe condition on an aviation product. Transport Canada, the aviation authority of Canada, with which we have a bilateral agreement, states that it has been determined that the existing hardware connecting the vertical fin to the tail rotor gearbox needs to be upgraded, to prevent the vertical fin from becoming loose.

BHTC has received reports of loose vertical fins discovered during inspections. Investigation revealed that the current vertical fin attachment hardware may not provide adequate clamp-up. If not corrected, the vertical fin could become loose and cause vibration, which could lead to subsequent loss of control of the helicopter. The proposed AD would require actions that are intended to address this unsafe condition.

DATES: We must receive comments on this proposed AD by April 22, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Bell Helicopter Textron Canada, 12,800 Rue de l'Avenir, Mirabel, Quebec J7J1R4, telephone (450) 437-2862 or (800) 363-8023, fax (450) 433-0272, or at http://www.bellcustomer.com/files/.

Examining the AD Docket: You may examine the AD docket on the Internet at http://www.regulations.gov or in person at the Docket Operations office between 9 a.m. and 5 p.m., Monday through Friday, except Federal holidays. The AD docket contains this proposed AD, the economic evaluation, any comments received and other information. The street address for the Docket Operations office (telephone (800) 647-5527) is in the ADDRESSES section. Comments will be available in the AD docket shortly after receipt.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION:

Comments Invited

We invite you to send any written relevant data, views, or arguments about this proposed AD. Send your comments to an address listed under the ADDRESSES section. Include “Docket No. FAA-2009-0227; Directorate Identifier 2007-SW-65-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada, which is the aviation authority for Canada, has issued an MCAI in the form of Canadian Airworthiness Directive CF-2007-22, dated September 14, 2007 (referred to after this as “the MCAI”), to correct an unsafe condition for the specified products. Transport Canada states in the MCAI that it has been determined that the existing hardware connecting the vertical fin to the tail rotor gearbox need to be upgraded, to prevent the vertical fin from becoming loose.

BHTC has received reports of loose vertical fins discovered during inspections. Investigation revealed that the current vertical fin attachment hardware may not provide adequate clamp-up. If not corrected, the vertical fin could become loose and cause vibration, which could lead to subsequent loss of control of the helicopter.

You may obtain further information by examining the MCAI and service information in the AD docket.

Relevant Service Information

Bell Helicopter Textron has issued Alert Service Bulletin No. 427-06-15, dated December 14, 2006. The actions described in the MCAI are intended to correct the same unsafe condition as that identified in the service information.

FAA's Determination and Requirements of This Proposed AD

This model helicopter has been approved by Transport Canada, which is the aviation authority of Canada, and is approved for operation in the United States. Pursuant to our bilateral agreement with this State of Design, we have been notified of the unsafe condition described in the MCAI. We are proposing this AD because we evaluated all pertinent information and determined an unsafe condition exists and is likely to exist or develop on other products of this same type design.

Differences Between This AD and the MCAI

We have reviewed the MCAI and related service information and, in general, agree with their substance. This AD differs from the MCAI as follows:

• We do not require compliance “no later than November 27, 2007”, because that date has passed.

• We refer to the compliance time as “hours time-in-service” rather than “air time hours.”

These differences are highlighted in the “Differences Between this AD and the MCAI” section in the AD.

Costs of Compliance

We estimate that this proposed AD would affect about 17 products of U.S. registry. We also estimate that it would take about 2 work-hours per helicopter to remove and visually inspect the vertical fin and the tail rotor gearbox attachment legs and to re-install the vertical fin. The average labor rate is $80 per work-hour. Required parts would cost about $227 per helicopter. Based on these figures, we estimate the cost of the proposed AD on U.S. operators to be $6,579 for the fleet, or $387 per helicopter, to perform the inspections and remove and re-install the vertical fin.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bell Helicopter Textron Canada (BHTC): Docket No. FAA-2009-0227; Directorate Identifier 2007-SW-65-AD.

Comments Due Date

(a) We must receive comments by April 22, 2009.

Other Affected ADs

(b) None.

Applicability

(c) This AD applies to Model 427 helicopters, serial numbers 56001 through 56057, 58001, and 58002, certificated in any category.

Reason

(d) Transport Canada states in the mandatory continuing airworthiness information (MCAI) that it has been determined that the existing hardware connecting the vertical fin to the tail rotor gearbox need to be upgraded, to prevent the vertical fin from becoming loose. BHTC has received reports of loose vertical fins discovered during inspections. Investigation revealed that the current vertical fin attachment hardware may not provide adequate clamp-up. If not corrected, the vertical fin could become loose and cause vibration, which could lead to subsequent loss of control of the helicopter.

Actions and Compliance

(e) Within the next 150 hours time-in-service, unless already done, do the following:

(1) Remove the vertical fin and visually inspect the inboard and outboard surfaces of the vertical fin where it attaches to the tail rotor gearbox support for a crack, an elongated bolt hole, fretting, distortion and corrosion.

(2) Visually inspect the tail rotor gearbox support attachment legs for a crack, fretting and corrosion.

(f) If a crack, elongated bolt hole, fretting, distortion or corrosion is detected, repair or replace the part with an airworthy part before further flight.

(g) Reinstall the vertical fin.

Differences Between This AD and the MCAI

(h) This AD differs from the MCAI as follows:

(1) We do not require compliance “no later than November 27, 2007”, because that date has passed.

(2) We refer to the compliance time as “hours time-in-service” rather than “air time hours.”

Other Information

(i) Alternative Methods of Compliance (AMOCs): The Manager, Safety Management Group, FAA, has the authority to approve AMOCs for this AD, if requested using the procedures found in 14 CFR 39.19. Send information to ATTN: Sharon Miles, Aviation Safety Engineer, FAA, Rotorcraft Directorate, Regulations and Guidance Group, Fort Worth, Texas 76193-0111, telephone (817) 222-5122, fax (817) 222-5961.

Related Information

(j) Mandatory Continuing Airworthiness Information (MCAI) Transport Canada Airworthiness Directive CF-2007-22, dated September 14, 2007, and Bell Helicopter Textron Alert Service Bulletin No. 427-06-15, dated December 14, 2006, contain related information.

Subject

(k) Air Transport Association of America (ATA) Code:5553, Vertical Stabilizer, Attach Fittings.

Issued in Fort Worth, Texas, on March 4, 2009.
Jerald E. Strentz,
Acting Manager, Rotorcraft Directorate, Aircraft Certification Service.

[FR Doc. E9-6225 Filed 3-20-09; 8:45 am]

BILLING CODE 4910-13-P